DEPARTMENT OF COMMERCE

National Oceanic and Atmospheric Administration

[RTID 0648-XD089]

Schedules for Atlantic Shark Identification Workshops and Protected Species Safe Handling, Release, and Identification Workshops; Correction

AGENCY: National Marine Fisheries Service (NMFS), National Oceanic and Atmospheric Administration (NOAA), Commerce.

ACTION: Notice of public workshops; correction.

SUMMARY: NMFS cancelled the Safe Handling, Release, and Identification Workshop originally scheduled for September 6, 2023, in Kenner, LA, and the Atlantic Shark Identification Workshop originally scheduled for September 14, 2023, in Virginia Beach, FL. The workshops were announced in the Federal Register on June 21, 2023. NMFS has rescheduled the Safe Handing, Release, and Identification Workshop for September 27, 2023 and the Atlantic Shark Identification Workshop for September 28, 2023.

DATES: The Safe Handling, Release, and Identification Workshop originally scheduled for September 6, 2023 is rescheduled to September 27, 2023. The Atlantic Shark Identification Workshop originally scheduled for September 14, 2023 is rescheduled to September 28, 2023.

ADDRESSES: The locations of the rescheduled workshops have not changed. The Safe Handling, Release, and Identification Workshop will be held in Kenner, LA. The Atlantic Shark Identification Workshop will be held in Virginia Beach, VA.

FOR FURTHER INFORMATION CONTACT: Peter Cooper by email at peter.cooper@noaa.gov or by phone at 301-427-8503.

SUPPLEMENTARY INFORMATION: Atlantic highly migratory species (HMS) fisheries are managed under the authority of the Atlantic Tunas Convention Act (16 U.S.C. 971 et seq.) and the Magnuson-Stevens Fishery Conservation and Management Act (16 U.S.C. 1801 et seq.). The 2006 Consolidated Atlantic HMS Fishery Management Plan and its amendments are implemented by regulations at 50 CFR part 635. Section 635.8 describes the requirements for the Safe Handling, Release, and Identification Workshops and Atlantic Shark Identification Workshops. The workshop schedules, registration information, and a list of frequently asked questions regarding Safe Handling, Release, and Identification workshops and the Atlantic Shark Identification are available online at: https://www.fisheries.noaa.gov/atlantic-highly-migratory-species/safe-handling-release-and-identification-workshops and https://www.fisheries.noaa.gov/atlantic-highly-migratory-species/atlantic-shark-identification-workshops.

Correction

In the Federal Register of June 21, 2023 (88 FR 40221) in FR Doc. 2023-13186, on page 40222, in the first column, the date of the second Atlantic Shark Identification Workshop listed under the heading “Workshop Dates, Times, and Location” is corrected to read as follows:

2. September 28, 2023, 12 p.m.-4 p.m., Courtyard by Marriott-Virginia Beach Norfolk, 5700 Greenwich Road, Virginia Beach, VA 23462.

Also, in the Federal Register of June 21, 2023 (88 FR 40221) in FR Doc. 2023-13186, on page 40222, in the second column, the date of the third Safe Handing, Release, and Identification Workshop listed under the heading “Workshop Dates, Times, and Location” is corrected to read as follows:

3. September 27, 2023, 9 a.m.-5 p.m., Hilton New Orleans Airport, 901 Airline Drive, Kenner, LA 70062.

Authority: 16 U.S.C. 1801 et seq.

Dated: August 22, 2023.
Jennifer M. Wallace,
Acting Director, Office of Sustainable Fisheries, National Marine Fisheries Service.

[FR Doc. 2023-18365 Filed 8-24-23; 8:45 am]

BILLING CODE 3510-22-P